DEPARTMENT OF HOUSING AND URBAN DEVELOPMENT

[Docket No. FR-5376-N-81]

Notice of Submission of Proposed Information Collection to OMB Emergency Comment Request; Evaluation of the Rapid Re-housing for Families Demonstration Program

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

The Department of Housing and Urban Development is seeking emergency review of the Paperwork Reduction Act requirements associated with HUD's evaluation of the Rapid Re-housing for Families Demonstration Program. This information collection request covers only the collection of participant contact information, and will be followed at a later date by an information collection request for the 12-month follow-up survey to be administered to evaluation participants.

DATES: Comments Due Date: August 20, 2010.

ADDRESSES: Interested persons are invited to submit comments regarding this proposal. Comments must be received within fourteen (14) days from the date of this Notice. Comments should refer to the proposal by name/or OMB approval number and should be sent to: HUD Desk Officer, Office of Management and Budget, New Executive Office Building, Washington, DC 20503; e-mail: OIRA_Submission @omb.eop.gov; fax: (202) 395-5806.

FOR FURTHER INFORMATION CONTACT: Leroy McKinney, Reports Management Officer, QDAM, Department of Housing and Urban Development, 451 Seventh Street, SW., Washington, DC 20410; e-mail: Leroy.MkinneyJR@hud.gov; telephone (202) 402-5564. This is not a toll-free number. Copies of available documents submitted to OMB may be obtained from Mr. McKinney.

SUPPLEMENTARY INFORMATION: This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Evaluation of the Rapid Re-housing for Families Demonstration Program.

OMB Control Number: 2528-New.

Agency Form Numbers: None.

Description of Information Collection: This is a new information collection. The Department of Housing and Urban Development is seeking emergency review of the Paperwork Reduction Act requirements associated with HUD's evaluation of the Rapid Re-housing for Families Demonstration Program. This information collection request covers only the collection of participant contact information, and will be followed at a later date by an information collection request for the 12-month follow-up survey to be administered to evaluation participants.

Members of Affected Public: Families enrolled in the Rapid Re-housing for Families Demonstration Program who agree to participate in the evaluation.

Estimation of the total numbers of hours needed to prepare the information collection including number of respondents, frequency of responses, and hours of responses: The estimated number of respondents is 1,200; the frequency of response is once; and the total reporting burden will be approximately 100 hours.

Total Estimated Burden Hours: 100.

Status of the proposed information collection: New collection.

Authority: The Paperwork Reduction Act of 1995, 44 U.S.C. Chapter 35, as amended.

Dated: July 30, 2010.
Leroy McKinney Jr.,
Departmental Reports Management Officer, Office of the Chief Information Officer.

[FR Doc. 2010-19476 Filed 8-5-10; 8:45 am]

BILLING CODE 4210-67-P